DEPARTMENT OF LABOR

Office of the Secretary

Submission for OMB Review; Comment Request

August 1, 2003.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by calling the Department of Labor. To obtain documentation, contact Vanessa Reeves on 202-693-4124 (this is not a toll-free number) or e-mail: reeves.vanessa2@dol.gov.

Comments should be sent to Office of Information and Regulatory Affairs, Attn: OMB Desk Officer for the Bureau of Labor Statistics (BLS), Office of Management and Budget, Room 10235, Washington, DC 20503 (202-395-7316/this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Agency: Bureau of Labor Statistics.

Type of Review: Revision of a currently approved collection.

Title: Consumer Price Index (CPI) Housing Survey (CADC).

OMB Number: 1220-0163.

Affected Public: Business or other for-profit and Individuals or households.

Frequency: Semi-annually and On occasion.

Type of Response: Reporting.

Number of Respondents: 36,996.

Number of Annual Responses: 62,942.

Estimated Time Per Responses: 6 minutes for Screening Survey; 9 minutes for Initiation Survey; and 7 minutes for Pricing Survey.

Total Burden Hours: 6,581.

Total Annualized Capital/Startup Costs: $0.

Total Annual Costs (operating/maintaining systems or purchasing services): $0.

Description: This request is for a three-year revision of the collection of housing information based on Census Bureau data. The data (rents, and other housing costs) are used to construct the items of Rent and Owners' Equivalent Rent. Together, these items comprise over 27 percent of the Consumer Price Index. Respondents include some owners and/or managers of rental properties throughout the country.

Ira L. Mills,
Departmental Clearance Officer.

[FR Doc. 03-20581 Filed 8-12-03; 8:45 am]

BILLING CODE 4510-24-M